DEPARTMENT OF LABOR

Employment and Training Administration

[TA-W-65,317]

Greenkote IPC, St. Louis, MO; Notice of Termination of Investigation

Pursuant to Section 221 of the Trade Act of 1974, as amended, an investigation was initiated on February 20, 2009 in response to a worker petition filed by the Service Employees' International Union, Local 1, on behalf of workers at Greenkote IPC, St. Louis, Missouri.

The petitioner has requested that the petition be withdrawn. Consequently, the investigation has been terminated.

Signed at Washington, DC, this 8th day of April 2009.
Richard Church,
Certifying Officer, Division of Trade Adjustment Assistance.

[FR Doc. E9-10572 Filed 5-6-09; 8:45 am]

BILLING CODE 4510-FN-P